DEPARTMENT OF JUSTICE

Notice of Lodging of Proposed Stipulation and Settlement Under the Comprehensive Environmental Response, Compensation and Liability Act

On November 15, 2021, a proposed Stipulation Resolving the General Unsecured Claim of the United States Environmental Protection Agency (“Stipulation”) was lodged in the United States Bankruptcy Court for the District of Delaware in In re Exide Holdings, Inc., et al., Case No. 20-11157 (CSS).

The proposed Stipulation resolves a proof of claim filed by the United States, on behalf of the Environmental Protection Agency (EPA), against Debtor Exide Technologies, LLC under the Comprehensive Environmental Response, Compensation, and Liability Act (CERCLA) with respect to the Portland Harbor Superfund Site (“Portland Harbor”) in Portland, Oregon; the Wiley's Bridge Lead Site (“Wiley's Bridge”) in Reading, Pennsylvania; the Brown's Battery Breaking Superfund Site (“Brown's Battery”) in Shoemakersville, Berks County, Pennsylvania; and the Reading Battery and Residential Sites (“Reading”) in Reading, Pennsylvania.

The proposed Stipulation provides EPA with an allowed claim of $17,569,392.16 allocated among the following sites: (a) $825,000 for Portland Harbor; $4,273,189.16 for Wiley's Bridge; (c) $471,203 for Brown's Battery; and (d) $12,000,000 for Reading.

The publication of this notice opens a period for public comment on the Stipulation. Comments should be addressed to the Assistant Attorney General, Environment and Natural Resources Division and should refer to In re Exide Holdings, Inc., et al., D.J. Ref. No. 90-11-2-07802/8. All comments must be submitted no later than thirty (30) days after the publication date of this notice.

Comments may be submitted either by email or by mail:

To submit comments: Send them:

By email to: pubcomment-ees.enrd@usdoj.gov.

By mail to: Assistant Attorney General, U.S. DOJ—ENRD, P.O., Box 7611, Washington, DC 20044-7611.

During the public comment period, the Stipulation may be examined and downloaded at this Justice Department website: https://www.justice.gov/enrd/consent-decrees. We will provide a paper copy of the Stipulation upon written request and payment of reproduction costs. Please mail your request and payment to: Consent Decree Library, U.S. DOJ—ENRD, P.O. Box 7611, Washington, DC 20044-7611.

Please enclose a check or money order for $2.00 (25 cents per page reproduction cost) payable to the United States Treasury.

Jeffrey Sands,
Assistant Section Chief, Environmental Enforcement Section, Environment and Natural Resources Division.

[FR Doc. 2021-26171 Filed 12-1-21; 8:45 am]

BILLING CODE P